DEPARTMENT OF ENERGY

Federal Energy Regulatory Commission

[Project No. 2738-049]

New York State Electric and Gas Corporation; Notice of Availability of Environmental Assessment

August 30, 2002.

An environmental assessment (EA) for Project No. 2738-049 is available for public review. The EA examines the New York State Electric and Gas Corporation's (NYSEG) proposal to change land rights, and sell 101 acres within the current boundary of the Saranac River Hydroelectric Project to Clinton County, New York (County) or New England Waste Services of New York, Inc. (NEWSNY). The County and NEWSNY have a public-private partnership currently operating a solid waste landfill adjacent to NYSEG's Kents Falls development, and propose to expand the landfill upon the project lands they would acquire. The Kents Falls development is located along the Saranac River within the town of Schuyler Falls, Clinton County, New York.

The EA was written by staff in the Office of Energy Projects, Federal Energy Regulatory Commission. Copies of the EA can be viewed during normal business hours (8:30 a.m. to 5 p.m) in the Commission's Public Reference Room at 888 First Street, NE., Washington, DC 20426, or by calling (202) 502-8371. This document may also be viewed on the FERC Internet Web site (http://www.ferc.gov) using the FERRIS link. For assistance with FERRIS, the FERRIS helpline can be reached at (202) 502-8222.

Additional information about the proposed project is available from the Commission's Office of External Affairs at 1-866-208-FERC, or contact the environmental project manager, Paul Friedman, at (202) 502-8059.

Magalie R. Salas,
Secretary.

[FR Doc. 02-22715 Filed 9-5-02; 8:45 am]

BILLING CODE 6717-01-P